DEPARTMENT OF THE TREASURY

Office of Foreign Assets Control

Publication of General Licenses Related to the Cuba, Burma, and Western Balkans Sanctions Programs

ACTION: Notice, publication of general licenses.

SUMMARY: The Office of Foreign Assets Control (“OFAC”) of the U.S. Department of the Treasury is publishing general licenses issued in the Cuba, Burma, and Western Balkans sanctions programs.

DATES: Effective Dates: See each general license for the applicable effective date for that license.

FOR FURTHER INFORMATION CONTACT: OFAC's Chief of Licensing, tel. (202) 622-2480 or Chief of Policy Planning and Program Management, tel. (202) 622-4855, or the Office of Chief Counsel (Foreign Assets Control), tel. (202) 622-2410, Department of the Treasury, Washington, DC 20220 (not toll free numbers).

SUPPLEMENTARY INFORMATION:

Electronic Availability

This document is available as an electronic file on the Federal Bulletin Board the day of publication in the Federal Register. By modem, dial (202) 512-1387 and type “/GO FAC,” or call (202) 512-1530 for disk or paper copies. This file is available for downloading without charge in ASCII and Adobe Acrobat readable (*.PDF) formats. For Internet access, the address for use with the World Wide Web, Telnet, or FTP protocol is http://fedbbs.access.gpo.gov. This document and additional information concerning OFAC are available from OFAC's Web site http://www.treas.gov/ofac.

Background

In recent months, OFAC has issued a number of general licenses authorizing certain transactions otherwise prohibited by the sanctions programs OFAC administers. At the time of issuance of each general license, OFAC made that license available on its Web site (http://www.treas.gov/ofac). With this notice, OFAC is publishing the general licenses in the Federal Register. The general licenses contained in this Notice include licenses in the Cuba, Burma, and Western Balkans sanctions programs.

1. Cuba General License

Cuba General License No. 1

Certain Travel-Related Transactions in Cuba Until 12:01 a.m. Eastern Daylight Time on August 1, 2004

(a) Family visit travelers. A person subject to the jurisdiction of the United States who is in Cuba on June 29, 2004, under a general or specific license to visit a close relative in Cuba pursuant to 31 CFR 515.561(a) or (b) as in effect on June 29, 2004, is authorized to continue to engage in all of the transactions ordinarily incident to travel within and from Cuba authorized on June 29, 2004, until 12:01 a.m. eastern daylight time on August 1, 2004.

(b) Fully-hosted travelers. A person subject to the jurisdiction of the United States who is in Cuba on June 29, 2004, and qualifies as a “fully-hosted” traveler as set forth in 31 CFR 515.420 as in effect on June 29, 2004, is authorized to continue to receive goods and services in Cuba for personal use or consumption in Cuba until 12:01 a.m. eastern daylight time on August 1, 2004, provided that no person subject to the jurisdiction of the United States (including the traveler) makes any payment, transfers any property, or provides any service to Cuba or a national of Cuba in connection with the receipt of those goods or services.

Issued: June 25, 2004.

2. Burma General Licenses

Burma General License No. 1

Official Government and International Organization Activities

All transactions and activities otherwise prohibited by sections 1 or 2 of Executive Order No. 13310 that are for the conduct of the official business of the United States Government, the United Nations, the World Bank, and the International Monetary Fund are authorized. This license does not authorize any importation into the United States of any article that is a product of Burma. Payments pursuant to this section may not involve a debit or credit to a blocked account on the books of a U.S. financial institution. Such payments may be made to an account on the books of a third-country financial institution.

Issued: July 29, 2003.

Burma General License No. 2

Third-Country Diplomatic and Consular Funds Transfers

All funds transfer-related transactions otherwise prohibited by sections 1 or 2 of Executive Order 13310 that are for the conduct of diplomatic or consular activities of third-country diplomatic or consular missions in Burma are authorized. Payments pursuant to this general license will be authorized even though they may involve transfers to or from an account of a financial institution whose property is blocked pursuant to section 1 of Executive Order 13310, provided that the account is not on the books of a financial institution that is a United States person.

Issued: August 15, 2003.

Burma General License No. 3

Importations for U.S. Diplomatic and Consular Officials

U.S. diplomatic or consular officials entering the United States directly or indirectly from Burma are authorized to engage in all transactions incident to the importation into the United States of products of Burma as accompanied baggage or household effects, provided that such products are not intended for any other person or for sale and are not otherwise prohibited from importation under applicable United States laws.

Issued: August 15, 2003.

Burma General License No. 4

Importations for Foreign Diplomatic and Consular Officials

All transactions incident to the importation into the United States of any article that is a product of Burma that is destined for official or personal use by personnel employed by a diplomatic mission or consulate in the United States are authorized, provided that such article is not intended for any other person or for sale and is not otherwise prohibited from importation under applicable United States laws.

Issued: August 15, 2003.

Burma General License No. 5

Diplomatic Pouches

All transactions in connection with the importation into the United States or the exportation from the United States of diplomatic pouches and their contents are authorized.

Issued: August 15, 2003.

Burma General License No. 6

Noncommercial Personal Remittances

(a) United States persons who are individuals (not entities) are authorized to make non-commercial remittances to individuals in Burma, provided that a United States person's total remittances in any consecutive 3-month period do not exceed $300 per Burmese household, regardless of the number of individuals comprising the household, and provided that no beneficiary is a person whose property is blocked pursuant to section 1 of Executive Order 13310. Payments pursuant to this general license are authorized even though they may involve transfers to or from an account of a financial institution whose property is blocked pursuant to section 1 of Executive Order 13310, provided that the account is not on the books of a financial institution that is a United States person.

(b) Financial institutions that are United States persons are authorized to engage in all transactions ordinarily incident to the transfer of funds authorized by paragraph (a) above. A financial institution that is a United States person may rely on the originator of a funds transfer with regard to compliance with paragraph (a) above, provided that the financial institution does not know or have reason to know that the funds transfer is not in compliance with paragraph (a) above.

Issued: August 22, 2003.

Burma General License No. 7

Transactions Incident to Certain Imports

All transactions otherwise prohibited by sections 1 or 2 of Executive Order 13310 that are incident to the importation into the United States of an article that is a product of Burma are authorized, provided the importation occurs prior to 12:01 a.m. eastern daylight time on August 28, 2003, and further provided that the importation is not from a person whose property is blocked by section 1 of Executive Order 13310. Financing agreements with respect to such importations may be performed only according to their terms and may not be extended or renewed. Payments pursuant to this general license will be authorized even though they may involve transfers to or from an account of a financial institution whose property is blocked pursuant to section 1 of Executive Order 13310, provided that the account is not on the books of a financial institution that is a United States person.

Issued: August 15, 2003.

Burma General License No. 8

Export-Related Transactions

All transactions otherwise prohibited by sections 1 or 2 of Executive Order 13310 that are ordinarily incident to an exportation to Burma are authorized, provided the exportation is not to a person whose property is blocked pursuant to section 1 of Executive Order 13310. Payments pursuant to this general license are authorized even though they may involve transfers to or from an account of a financial institution whose property is blocked pursuant to section 1 of Executive Order 13310, provided that the account is not on the books of a financial institution that is a United States person. This general license does not authorize a financial institution that is a United States person to advise or confirm any financing by a person whose property is blocked by section 1 of Executive Order 13310.

Issued: August 22, 2003.

Burma General License No. 9

Importation of Information and Informational Material

(a) The importation of information or informational materials and all transactions directly incident to such importation are authorized. Payments pursuant to this general license are authorized even though they may involve transfers to or from an account of a financial institution whose property is blocked pursuant to section 1 of Executive Order 13310, provided that the account is not on the books of a financial institution that is a United States person.

(b) The term “information or informational materials” includes, but is not limited to, publications, films, posters, phonograph records, photographs, microfilms, microfiche, tapes, compact discs, CD ROMs, artworks, and news wire feeds. To be considered “information or informational materials,” artworks must be classified under chapter headings 9701, 9702, or 9703 of the Harmonized Tariff Schedule of the United States.

Note to General License No. 9: The exportation of information or informational materials is exempt from the prohibitions contained in the Burmese Sanctions Regulations and Executive Order Nos. 13047 or 13310.

Issued: August 28, 2003.

Burma General License No. 10

Importation of Certain Personal and Household Effects

(a) A United States person who maintained a residence in Burma prior to July 28, 2003, is authorized to import into the United States personal and household effects that are products of Burma, including accompanied baggage and articles for family use, provided the imported items were purchased by the United States person prior to July 28, 2003, have been actually used abroad by the United States person or by other family members arriving from the same foreign household, are not intended for any other person or for sale, and are not otherwise prohibited from importation.

(b) A national of Burma who arrives in the United States after July 28, 2003, is authorized to import into the United States personal and household effects that are products of Burma, including accompanied baggage and articles for family use, provided the imported items are ordinarily incident to the Burmese national's arrival in the United States, have been actually used abroad by the Burmese national or by other family members arriving from the same foreign household, are not intended for any other person or for sale, and are not otherwise prohibited from importation.

Issued: August 28, 2003.

Burma General License No. 11

Activities Undertaken Pursuant to Certain Pre-May 21, 1997 Agreements

Except as prohibited by section 3 of Executive Order 13310, United States persons are authorized to engage in any activity, or any transaction incident to an activity, undertaken pursuant to an agreement, or pursuant to the exercise of rights under such an agreement, provided that:

(a) The parties to the agreement include:

(1) The Government of Burma or a nongovernmental entity in Burma, and

(2) An entity organized under the laws of a foreign state and owned or controlled by a United States person; and

(b) The agreement was entered into prior to 12:01 a.m., eastern daylight time, on May 21, 1997.

Issued: October 21, 2003.

Burma General License No. 12

Allowable Payments for Overflights of Burmese Airspace

Payments to Burma of charges for services rendered by the Government of Burma in connection with the overflight of Burma or emergency landing in Burma of aircraft owned or operated by a United States person or registered in the United States are authorized. Payments pursuant to this general license are authorized even though they may involve transfers to or from an account of a financial institution whose property is blocked pursuant to section 1 of Executive Order 13310, provided that the account is not on the books of a financial institution that is a United States person.

Issued: October 17, 2003.

Burma General License No. 13

Importation of Burmese-origin Articles

The importation of any article that is a product of Burma and all transactions directly incident to such importation are authorized, provided the article was purchased prior to July 28, 2003, shipped from Burma to the United States prior to August 28, 2003, and is not property in which a person whose property and interests in property are blocked pursuant to section 1 of Executive Order 13310 has an interest. Financing agreements with respect to such importations may be performed only according to their terms and may not be extended or renewed. Payments pursuant to this general license are authorized even though they may involve transfers to or from an account of a financial institution whose property is blocked pursuant to section 1 of Executive Order 13310, provided that the account is not on the books of a financial institution that is a United States person.

Issued: July 28, 2004.

3. Western Balkans General License

Western Balkans General License No. 1

Legal Representation in Matters Pending Before the International Criminal Tribunal for the Former Yugoslavia

The provision by a U.S. person of professional legal services relating to the representation of persons whose property or interests in property are blocked pursuant to 31 CFR 588.201(a) in matters pending before the International Criminal Tribunal for the former Yugoslavia (“the Tribunal”) is authorized. With respect to such representation, receipt of payment of professional fees and reimbursement of incurred expenses are authorized if such payments or reimbursements are made by the Tribunal. Such payments and reimbursements from any other source must be specifically licensed. Section 501.601 of the Reporting and Procedures Regulations (31 CFR part 501) requires that records on each transaction subject to this license be maintained and available for examination for a minimum of five years following the transaction date.

Issued: July 9, 2003.

Dated: September 27, 2004.
R. Richard Newcomb,
Director, Office of Foreign Assets Control.
Approved: October 5, 2004.
Juan C. Zarate,
Assistant Secretary (Terrorist Financing and Financial Crime), Department of the Treasury.

[FR Doc. 04-24270 Filed 11-4-04; 8:45 am]

BILLING CODE 4810-25-P